DEPARTMENT OF HOMELAND SECURITY

Coast Guard

33 CFR Part 117

[Docket No. USCG-2011-1158]

Drawbridge Operation Regulations; Northeast Cape Fear River, Wilmington, NC

AGENCY: Coast Guard, DHS.

ACTION: Notice of temporary deviation from regulations.

SUMMARY: The Commander, Fifth Coast Guard District, has issued a temporary deviation from the regulations governing the operation of the Isabel S. Holmes Bridge, mile 1.0, across the Northeast Cape Fear River, at Wilmington, NC. The deviation restricts the operation of the draw span to facilitate structural, electrical and mechanical upgrades and repairs of the bridge.

DATES: This deviation is effective from 7 a.m. January 16, 2012, to 11 p.m. April 30, 2012.

ADDRESSES: Documents mentioned in this preamble as being available in the docket USCG-2011-1158 and are available online by going to http://www.regulations.gov, inserting USCG-2011-1158 in the “Keywords” box, and then clicking “Search”. This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Bill H. Brazier, Bridge Management Specialist, Fifth Coast Guard District, telephone (757) 398-6422, email Bill.H.Brazier@uscg.mil. If you have questions on reviewing the docket, call Renee V. Wright, Program Manager, Docket Operations, (202) 366-9826.

SUPPLEMENTARY INFORMATION: The North Carolina Department of Transportation, who owns and operates this double-leaf bascule bridge, has requested a temporary deviation from the current operating regulations set out in 33 CFR 117.829(a), to facilitate structural, electrical and mechanical upgrades and repairs of the bridge.

Under the regular operating schedule, the bridge operates as follows: The draw will be closed to pleasure craft from 6 a.m. to 6 p.m. every day except at 10 a.m. and 2 p.m. when the draw will open for all waiting vessels; the draw will open on signal for Government and commercial vessels at all times; and the draw will open for all vessels on signal from 6 p.m. to 6 a.m.

In the closed position to vessels, the Isabel S. Holmes Bridge has a vertical clearance of 42 feet above mean high water.

Under this temporary deviation, the drawbridge will be closed to vessels requiring an opening from 7 a.m. on January 16, 2012 until and including 11 p.m. on April 30, 2012. However, during the period of deviation, vessel openings will be provided if at least three hours advance notice is given to the bridge tender at (910) 251-5774 or via marine radio on channel 13 VHF.

Vessels that can pass under the drawbridge without an opening may do so at all times. There are no alternate routes for vessels transiting this section of the Northeast Cape Fear River. The drawbridge will be able to open in the event of an emergency.

The Coast Guard has coordinated these upgrades and repairs with the Cape Fear River Pilots Association and will use Local and Broadcast Notice to Mariners to inform all users of the waterway of the closure periods for the drawbridge so that vessels can arrange their transits to minimize any impacts caused by the temporary deviation.

In accordance with 33 CFR 117.35(e), the drawbridge must return to its original operating schedule immediately at the end of the designated time period. This deviation from the operating regulations is authorized under 33 CFR 117.35.

Dated: December 22, 2011.
Waverly W. Gregory, Jr.,
Bridge Program Manager, Fifth Coast Guard District.

[FR Doc. 2012-172 Filed 1-9-12; 8:45 am]

BILLING CODE 9110-04-P